ENVIRONMENTAL PROTECTION AGENCY

[ER-FRL-6682-7]

Environmental Impacts Statements; Notice of Availability

Responsible Agency: Office of Federal Activities, General Information (202) 564-7167 or http://www.epa.gov/compliance/nepa/.

Weekly receipt of Environmental Impact Statements

Filed 12/25/2006 through 12/29/2006

Pursuant to 40 CFR 1506.9.

EIS No. 20060539, Draft Supplement, AFS, 00, Northern Spotted Owl Management Plan, Removal or the Modification to the Survey and Manage Mitigation Measures, Standards and Guidelines (to the Northwest Forest Plan), Addresses the Effects of an Additional No-Action Alternative to the (July 2006) Draft Supplement and to the (2004) Final Supplemental EIS, Northwest Forest Plan, OR, WA, and CA, Comment Period Ends: 04/05/2007, Contact: Carol Hughes 503-808-2661.

EIS No. 20060540, Final EIS, NOA, LA, PROGRAMMATIC—The Louisiana Regional Restoration Planning Program, Establishing and Implementation of Natural Resource Trust Mandates, LA, Wait Period Ends: 02/20/2007, Contact: Tony Penn, 301-713-2990 Ext 197.

EIS No. 20060541, Draft EIS, BLM, ID, Pocatello Resource Management Plan, To Provide Direction for Managing Public Lands in the Idaho Falls Districts, Pocatello Field Office (PFO), Implementation, Several Counties, ID, Comment Period Ends: 04/04/2007, Contact: Terry Lee Smith, 208-478-6340.

EIS No. 20060542, Draft EIS, FRC, 00, Spokane River and Post Falls Hydroelectric Project, Applications for two New Licenses for Existing 14.75 (mw) Post Falls No. 12606 and 122.9 (mw) Spokane River No. 2545, Kootenai and Benewah Counties, ID and Spokane, Lincoln and Stevens Counties, WA, Comment Period Ends: 02/20/2007, Contact: John Blair, 202-502-6092.

EIS No. 20060543, Final EIS, COE, CA, San Juan Creek and Western San Mateo Creek Watershed Special Area Management Plan (SAMP), Proposed Watershed-Based SAMP to Balance Aquatic Resource Protection and Reasonable Economic Development, Southern Portion of Orange County, CA, Wait Period Ends: 02/05/2007, Contact: Jae Chung, 213-452-3292.

EIS No. 20060544, Final EIS, FRC, NY, Niagara Project, Hydroelectric Relicensing Application FERC No. 2216, Niagara River, Niagara County, NY, Wait Period Ends: 02/05/2007 Contact: Steven Kartalia, 202-502-6131.

EIS No. 20060545, Final EIS, FTA, TX, Southeast Corridor Project, Proposed Fixed-Guideway Transit System, Funding, Metropolitan Transit Authority (METRO) of Harris County, Houston, Harris County, TX, Wait Period Ends: 02/05/2007, Contact: John Sweek, 817-978-0550.

Amended Notices

EIS No. 20060480, Draft EIS, BIA, NY, Oneida Nation of New York Conveyance of Lands into Trust, Proposes to Transfer 17,370 Acre of Fee Land into Federal Trust Status, Oneida, Madison and New York Counties, NY, Comment Period Ends: 02/22/2007, Contact: Kurt G. Chandler, 615-564-6832.

Revision of FR Notice Published 11/24/2006: Extending Comment Period from 01/08/2007 to 02/22/2007.

EIS No. 20060518, Draft EIS, FHW, IN, I-69 Evansville to Indianapolis Project, I-69 Tier 2 Section 1: Evansville to Oakland City, from 1-64 to IN-64, Gibson and Warrick Counties, IN, Comment Period Ends: 02/20/2007, Contact: Anthony DeSimone, 317-226-5307.

Revision of FR Notice Published 12/22/2006: Correction to Title.

Dated: December 29, 2006.
Clifford Rader,
Environmental Protection Specialist, Office of Federal Activities.

[FR Doc. E6-22604 Filed 1-4-07; 8:45 am]

BILLING CODE 6560-50-P